DEPARTMENT OF THE TREASURY

Community Development Financial Institutions Fund

Change to Notice of Funds Availability (NOFA) Inviting Applications for Financial Assistance (FA) Awards or Technical Assistance (TA) Awards Under the Community Development Financial Institutions Program (CDFI Program) Fiscal Year (FY) 2020 Funding Round

ACTION: Change of Application deadline, and change of deadlines to contact CDFI Program staff and AMIS-IT Help Desk staff.

Catalog of Federal Domestic Assistance (CFDA) Number: 21.020.

Executive Summary: On February 21, 2020, the Community Development Financial Institutions Fund (CDFI Fund) published a Notice of Funds Availability (NOFA) for Financial Assistance (FA) awards or Technical Assistance (TA) awards under the Community Development Financial Institutions Program Fiscal Year 2020 Funding Round in the Federal Register (85 FR 10219, February 21, 2020) announcing the availability of approximately $184 million in Financial Assistance (FA) and Technical Assistance (TA) awards, under the Consolidated Appropriations Act, 2020 (Pub. L. 116-93). The CDFI Fund is issuing this notice to amend three NOFA deadlines. The deadline to submit a CDFI Program Application for Financial Assistance (FA) award or Technical Assistance (TA) award is amended from 11:59 p.m. ET on April 21, 2020, to 11:59 p.m. ET on April 30, 2020. The deadline to contact CDFI Program staff is amended from 5:00 p.m. ET on April 17, 2020, to 5:00 p.m. ET on April 28, 2020. The deadline to contact AMIS-IT Help Desk staff is amended from 5:00 p.m. ET on April 21, 2020, to 5:00 p.m. ET on April 30, 2020. All other deadlines set forth in the Notice of Funds Availability shall remain in accordance with the NOFA published on February 21, 2020.

Capitalized terms used in this NOFA are defined in the Authorizing Statute (Pub. L. 103-325, 12 U.S.C. 4701 et seq.), the Regulations (12 CFR parts 1805 and 1815), this NOFA, the Application, Application Materials, or the Uniform Requirements (2 CFR part 1000).

All other information and requirements set forth in the NOFA published on February 21, 2020, shall remain effective, as published.

I. Agency Contacts

A. General information on questions and CDFI Fund support. The CDFI Fund will respond to questions concerning this NOFA and the Application between the hours of 9:00 a.m. and 5:00 p.m. Eastern Time, starting on the date that the NOFA is published through the dates listed in this NOFA. The CDFI Fund strongly recommends Applicants submit questions to the CDFI Fund via an AMIS service request to the CDFI Program, Office of Certification, Compliance Monitoring and Evaluation, or IT Help Desk. The CDFI Fund will post on its website responses to reoccurring questions received about the NOFA and Application. Other information regarding the CDFI Fund and its programs may be obtained from the CDFI Fund's website at http://www.cdfifund.gov.

B. The CDFI Fund's contact information is as follows:

Table A—Contact Information
Type of question | Preferred method | Telephone number (not toll free) | Email addresses
CDFI Program | Service Request via AMIS | 202-653-0421, option 1 | cdfihelp@cdfi.treas.gov.
CCME | Service Request via AMIS | 202-653-0423 | ccme@cdfi.treas.gov.
AMIS—IT Help Desk | Service Request via AMIS | 202-653-0422 | AMIS@cdfi.treas.gov.

C. Communication with the CDFI Fund. The CDFI Fund will use the contact information in AMIS to communicate with Applicants and Recipients. It is imperative therefore, that Applicants, Recipients, Subsidiaries, Affiliates, and signatories maintain accurate contact information in their accounts. This includes information such as contact names (especially for the Authorized Representative), email addresses, fax and phone numbers, and office locations. For more information about AMIS, please see the AMIS Landing Page at https://amis.cdfifund.gov.

Authority: 12 U.S.C. 4701, et seq.; 12 CFR parts 1805 and 1815; 2 CFR part 200.

Jodie L. Harris,
Director, Community Development Financial Institutions Fund.

[FR Doc. 2020-07685 Filed 4-10-20; 8:45 am]

BILLING CODE 4810-70-P